DEPARTMENT OF ENERGY

Federal Energy Regulatory Commission

18 CFR Parts 141 and 385

[Docket No. RM19-12-000; Order No. 859]

Revisions to the Filing Process for Commission Forms

AGENCY: Federal Energy Regulatory Commission.

ACTION: Final rule.

SUMMARY: The Commission is adopting eXtensible Business Reporting Language (XBRL) as the standard for filing the Commission Form Nos. 1, 1-F, 2, 2-A, 3-Q electric, 3-Q natural gas, 6, 6-Q, 60, and 714. The use of XBRL will make the information in these forms easier for filers to submit and data users to analyze, and assist in automating regulatory filings. The Commission believes that transitioning from the current Visual FoxPro system to XBRL will decrease the costs, over time, of preparing the necessary data for submission and complying with future changes to filing requirements set forth by the Commission. In addition, the Commission is revising its regulations to require filers of Form No. 1-F to file their report in electronic media.

DATES: This rule is effective August 26, 2019.

FOR FURTHER INFORMATION CONTACT: Robert Hudson (Technical Information), Office of Enforcement, Federal Energy Regulatory Commission, 888 First Street NE, Washington, DC 20426, (202) 502-6620, Robert.Hudson@ferc.gov. Michael Chase, Office of General Counsel, Federal Energy Regulatory Commission, 888 First Street NE, Washington, DC 20426, (202) 502-6205, Michael.Chase@ferc.gov.

| Paragraph numbers
I. Background | 2
II. Notice of Proposed Rulemaking | 3
III. Discussion | 4
A. Process for Implementing the XBRL-Based Solution | 7
1. Timeline and Structure | 7
2. XBRL Taxonomy | 18
B. Regulatory Text Revisions | 26
IV. Information Collection Statement | 27
V. Environmental Analysis | 36
VI. Regulatory Flexibility Act | 37
VII. Document Availability | 41
VIII. Effective Date and Congressional Notification | 44

1. The Commission is adopting eXtensible Business Reporting Language (XBRL) as the standard for filing the Commission's Form Nos. 1, 1-F, 2, 2-A, 3-Q electric, 3-Q natural gas, 6, 6-Q, 60, and 714 (VFP Forms or Commission Forms). The Commission concludes that adoption of XBRL will make the information in these forms easier for filers to submit and data users to analyze, and assist in automating regulatory filings. The use of XBRL also will increase efficiency and decrease the costs, over time, of preparing the necessary data for submission and complying with future changes to filing requirements set forth by the Commission. In addition, the Commission is revising its regulations to require Form No. 1-F filers to file their report in electronic media pursuant to 18 CFR 385.2011.

I. Background

2. Under the Commission's regulations, certain entities are required to report information to the Commission by filing one or more forms.¹ Currently, this information is transmitted to the Commission using a Commission-distributed software application called Visual FoxPro (VFP). Each entity is required to gather its relevant financial and other data and enter the data into VFP on its own computer system. The entity then uses the VFP software to transmit the information to the Commission. Microsoft Corporation, the developer of the VFP software, no longer supports this application. As a result, on April 25, 2015, the Commission issued an order announcing its intention to replace the current VFP filing format for the VFP Forms with an eXtensible Markup Language (XML)-based filing format.² In the April 2015 Order, the Commission stated that XML is the current industry standard for the submission of electronic data. In support of this proposed change, the Commission stated that the XML data format has significant advantages over other approaches because it is non-proprietary and would establish a single standard for nearly all Commission forms, while also providing consistency with the Commission's current electronic tariff (eTariff) filings and the Electric Quarterly Report (EQR) systems.³ In the April 2015 Order, the Commission directed Commission staff to seek the assistance of the North American Energy Standards Board (NAESB) ⁴ in the process of developing standards for the submission of the VFP Forms to the Commission.⁵ NAESB facilitated 18 meetings to discuss the transitioning of the forms to the XML process. In addition to these meetings, Commission staff analyzed different methods for collecting forms information with other federal agencies.

¹ See 18 CFR 141.1 (requiring annual filing of FERC Form No. 1, Annual report of Major electric utilities, licensees and others); 18 CFR 141.2 (requiring annual filing of FERC Form No. 1-F, Annual report for Nonmajor public utilities and licensees); 18 CFR 260.1 (requiring annual filing of FERC Form No. 2, Annual report for Major natural gas companies); 18 CFR 260.2 (requiring annual filing of FERC Form No. 2-A, Annual report for Nonmajor natural gas companies); 18 CFR 141.400 and 18 CFR 260.300 (requiring quarterly filing of FERC Form No. 3-Q, Quarterly financial report of electric utilities, licensees, and natural gas companies); 18 CFR 357.2 (requiring annual filing of FERC Form No. 6, Annual Report of Oil Pipeline Companies); 18 CFR 357.4 (requiring quarterly filing of FERC Form No. 6-Q, Quarterly report of oil pipeline companies); 18 CFR 141.51 (requiring annual filing of FERC Form No. 714, Annual Electric Balancing Authority Area and Planning Area Report); and 18 CFR 366.23 and 18 CFR 369.1 (requiring annual filing of FERC Form No. 60, Annual reports of centralized service companies).

² Electronic Filing Protocols for Commission Forms, 151 FERC ¶ 61,025 (2015) (April 2015 Order).

³ Id. P 5.

⁴ NAESB serves as a forum for the development and promotion of standards for the wholesale and retail natural gas and electric industries. In response to the Commission's request on this matter, NAESB performed specific outreach to the oil pipeline industry to include participation from that sector.

⁵ April 2015 Order, 151 FERC ¶ 61,025 at P 10.

II. Notice of Proposed Rulemaking

3. On January 17, 2019, the Commission issued a Notice of Proposed Rulemaking in this proceeding, proposing to adopt XBRL as the standard for filing Commission Forms.⁶ The Commission stated that the XBRL standard includes all the advantages of the XML format, such as its non-proprietary nature, its efficient sharing of data across different information systems, and its ability to include identified proprietary formats (e.g., PDF, Microsoft Word, etc.), while also structuring the data with tags that utilize standard taxonomies to capture the inherent characteristics of the information as well as the value of the data.⁷ The Commission noted that the XBRL standard is required for filing forms by a number of other federal agencies, including the U.S. Securities and Exchange Commission, the Department of Energy, and the Federal Financial Institutions Examination Council.⁸ The Commission stated that XBRL is an international standard that enables the reporting of comprehensive, consistent, interoperable data that allows industry and other data users to automate submission, extraction, and analysis.⁹ The Commission also stated that the use of XBRL would facilitate the implementation of changes to its reporting requirements by enabling future changes without the need for costly development procedures.¹⁰ The Commission sought comment generally on the proposed transition from VFP to XBRL and specifically on the time period of historical VFP Form data that should be converted by the Commission to XBRL upon launch of the new XBRL system.¹¹

⁶ Revisions to the Filing Process for Commission Forms, Notice of Proposed Rulemaking, 166 FERC ¶ 61,027 (2019) (NOPR).

⁷ Id. P 8.

⁸ Id. P 9 & n.12.

⁹ Id. P 9.

¹⁰ Id. P 15.

¹¹ Id. P 20.

III. Discussion

4. Nine commenters ¹² filed comments in response to the NOPR, broadly supporting the use of XBRL to replace the current software for filing Commission Forms. The commenters generally agree that using XBRL to file Commission Forms would be superior to the current VFP-based filing format or a customized XML-based format. No commenters provided any alternative to XBRL or opposed the Commission's proposal to replace VFP with XBRL as the standard for submitting Commission Forms. Based on the need to transition to a new filing format and the comments received in response to the NOPR, the Commission will adopt the XBRL standard for filing Commission Form Nos. 1, 1-F, 2, 2-A, 3-Q electric, 3-Q natural gas, 6, 6-Q, 60, and 714.

¹² American Gas Association (AGA); the Association of Oil Pipe Lines (AOPL); Donnelly Financial Solutions; the Edison Electric Institute (EEI); Interstate Natural Gas Association of America (INGAA); National Grid USA (National Grid); Systrends USA; Washington Utilities and Transportation Commission (WUTC); and XBRL US, Inc. (XBRL US). In addition, the Midcontinent Independent System Operator, Inc. filed a motion to intervene in this proceeding.

5. The Commission intends to make the data from the XBRL filings available to the public, as it does now for the VFP-filed Commission Forms, and provide a system that will allow for easier downloading of the data. The Commission will convert the XBRL data to a human-readable form for each company, similar to how the VFP Forms are currently published in the Commission's eLibrary system. The Commission also will create a database that parties can use to search the forms data and download the information.

6. The Commission intends to proceed with the development and implementation of the XBRL standard using the following process. After publication of this final rule, the Commission will make available a draft of the XBRL taxonomy and other related documents. After public release of these items, Commission staff will convene technical conference(s) to discuss the taxonomy and other related documents, any technical concerns, and any issues related to the transition, including the implementation schedule. At the conclusion of the technical conference(s), the Commission will continue to collect comments. Following review of those comments, the Commission will issue an order adopting the final taxonomy, protocols, and an implementation guide, and establishing an implementation schedule. Industry participants will be afforded reasonable time to develop their software and the Commission will make available a platform for the testing of the filers' submissions.

A. Process for Implementing the XBRL-Based Solution

1. Timeline and Structure

a. Comments

7. In providing support for the Commission's proposed use of XBRL for filing Commission Forms, the commenters raise issues for Commission consideration to ensure a smooth transition from VFP to XBRL, including recommendations for the timing of implementing XBRL as the standard and how much historical data the Commission should initially make available upon conversion to XBRL. In its comments, National Grid recommends that the Commission set at least one technical conference to obtain stakeholder input on any revisions that should be made to the Commission's XBRL software.¹³ AOPL requests that the implementation schedule allow time for sufficient technical conferences to ensure issues are adequately vetted and addressed.¹⁴

¹³ National Grid Comments at 6.

¹⁴ AOPL Comments at 4.

8. AGA recommends that the Commission develop a compliance timeline and structure that are not burdensome to either filers or reviewers of the filings.¹⁵ AGA notes the Commission should provide sufficient time for software evaluation, development, contracting, implementation, and testing. EEI encourages the Commission to ensure that adequate time and resources are dedicated to implementing the new XBRL-based Commission Forms filing process and notes that the initial reporting period should afford some flexibility to account for unanticipated technical issues that may arise, including the ability to continue to use VFP, if necessary, and a willingness to provide extensions of time in case of unanticipated technical challenges.¹⁶ EEI states that this accommodation is needed because the NOPR does not contemplate a gradual phase-in of the XBRL system.¹⁷

¹⁵ AGA Comments at 2.

¹⁶ EEI Comments at 4-5.

¹⁷ Id. at 5.

9. National Grid urges the Commission to take expedited action to develop the XBRL system to minimize the use of the legacy VFP system.¹⁸ National Grid also recommends that the Commission implement a one-year safe harbor period to allow filing entities to use the legacy VFP software if problems are encountered with adopting the new format.¹⁹

¹⁸ National Grid Comments at 3.

¹⁹ Id. at 4.

10. EEI requests that the Commission provide a minimum of 18 months from the final rule for the industry to develop and implement the new software.²⁰ AGA recommends that the Commission adopt a two- to three-year XBRL transition period, while also permitting early implementation for companies that can implement the XBRL system in less time.²¹ To aid the XBRL transition, AGA suggests that a “staggered approach” could be adopted in place of, or in addition to, a delayed mandate with early adoption process. Specifically, AGA proposes that the Commission select a date for pipelines to file their Form No. 2-As in the required XBRL filing format that falls after the date that the Form No. 2 filers are required to make their filings. AGA suggests that this staggered approach would allow the XBRL software vendors and service providers to better allocate resources to support the XBRL implementation for all companies.²² As an alternative to the two- to three-year extension of the compliance deadline, AGA suggests that the Commission establish a formal grace period, possibly for 30 days, for all filings requiring the XBRL filing format during a two-year phase-in period.²³ In addition, AGA recommends that the Commission not require interested entities to use special software to access and view the filed financial data, rather suggesting that information filed with the Commission be accessible and readable. AGA states that interested persons should have the ability to download the information in PDF form or via other common electronic means.

²⁰ EEI Comments at 4-5.

²¹ AGA Comments at 5.

²² Id.

²³ Id. at 5-6.

11. Some commenters request that the Commission implement a testing period for the new XBRL standard. For example, AOPL states it anticipates its members will want opportunities to participate in a testing interface with the new XBRL filing method in advance of implementation.²⁴ Similarly, EEI asks that the Commission provide filers with the opportunity to participate in testing the revisions to the filing process and the XBRL system itself, in advance of the technical conference(s), by providing as much additional information as possible to participants regarding its proposal to allow a more granular understanding of the XBRL process and system.²⁵ XBRL US recommends that that the Commission provide guidance and training to filers.²⁶

²⁴ AOPL Comments at 4.

²⁵ EEI Comments at 4.

²⁶ XBRL US Comments at 5-6.

12. AGA cautions the Commission that its members will not only need to determine how to comply with any new requirements, if applicable, but also potentially need to review the forms filed by the interstate pipelines from which the utilities receive service to ensure that the XBRL versions are accurate and consistent with historical data. AGA requests that the Commission afford customers and interested persons sufficient opportunity to review the filings, determine whether any substantive changes have been made, and raise concerns.²⁷ AGA requests that the Commission not make any determination in this proceeding that would limit the ability of companies to use the Commission's forms for state compliance purposes. AGA notes that various state commissions have either adopted the forms for their own purposes or permit entities to file information at the state level consistent with the Commission's forms and methods to comply with state requirements.²⁸

²⁷ AGA Comments at 5.

²⁸ Id. at 7.

b. Commission Determination

13. As stated above, after publication of this final rule, the Commission will release a draft XBRL taxonomy and other related documents.²⁹ Following the release of the draft taxonomy, the Commission will convene staff-led technical conference(s) to enable interested industry members, vendors, and the public to discuss and propose revisions to the draft taxonomy, along with other important components of the XBRL system. In response to comments by AGA, National Grid, AOPL, and EEI, the technical conference(s) will serve as the forum to discuss any issues related to the transition, including the implementation schedule, the idiosyncrasies of specific forms, how footnotes will be programmed, and how “cellnotes” will be treated in the conversion of historical VFP Form data. The Commission intends to provide a reasonable amount of time for issues to be vetted and addressed in the technical conference(s). At the conclusion of the technical conference process, the Commission will continue to solicit comments and, after reviewing those comments, the Commission will issue an order adopting the final taxonomy, protocols, implementation guide and other documents, and establishing an implementation schedule.

²⁹ As explained in the NOPR, the use of XBRL results in the creation of a taxonomy. Taxonomies are files containing relevant business terminology, their meanings, their data types, relationships among terms, and the rules or formulas that files for submission must follow. NOPR, 166 FERC ¶ 61,027 at P 14. Taxonomies are not permanent documents, but rather are code that describes elements that can be used in other programs and software. The taxonomy contains all the information needed to create a form submission.

14. In response to comments by EEI and AGA concerning the compliance timeline and structure, the Commission plans to allow a reasonable period of time following the technical conference process for software evaluation, development, implementation and testing, while also attempting to minimize the burden on filers and reviewers of the filings, to the extent possible. However, as explained in the NOPR, because Microsoft Corporation no longer supports VFP, and its continued use has resulted in compatibility and maintenance difficulties for the Commission and some filers, the Commission will strive to fully transition to XBRL and retire VFP as soon as practicable. Given the importance of ensuring that the data collected through Commission Forms is uniform and available in the same format at the same time, we do not anticipate that a one-year safe harbor period to continue allowing filers to use the VFP software after the new XBRL system is implemented, as suggested by National Grid, will be warranted. Moreover, contrary to EEI's suggestion, we do not anticipate allowing the continued use of VFP after the implementation of XBRL. Following discussions at the technical conference(s), including about the implementation date for XBRL, the Commission will issue an order with the final implementation schedule and process. To the extent a filer encounters technical difficulties in filing Commission Forms using the new XBRL system after deployment, that filer will be free to seek an extension of time for compliance.

15. In addition, as requested by AGA, AOPL, and EEI, the Commission plans to provide an opportunity for interested industry members to test a version of the XBRL system before implementing the new XBRL system. The technical conference(s) will be open to the public and the Commission encourages all interested entities, including vendors, to participate in the upcoming technical conference(s) and to test the system. We reiterate that in this proceeding we are not changing the information to be collected in Commission Forms. All information currently collected in Commission Forms will continue to be collected; however, where it will be collected and how it will be validated and displayed will change through the adoption of the XBRL system.³⁰ We will not require the use of special software to access the data and we will ensure there is the ability to download the information in a human-readable form, as suggested by AGA.

³⁰ As stated in the NOPR, the proposed XBRL-based FERC Form Nos. 1, 1-F, and 3-Q electric will incorporate energy storage-related data which the Commission required be submitted under Order No. 784, but had not been included in the VFP Forms due to the technical limitations of VFP addressed with this final rule. See Third-Party Provision of Ancillary Services; Accounting and Financial Reporting for New Electric Storage Technologies, Order No. 784, 144 FERC ¶ 61,056 (2013). See also Accounting and Reporting Guidance for New Electric Storage Technologies, Docket No. AI14-1-000, at 1-2 (Feb. 20, 2014). Other similar changes made to the data to be collected and reported in Commission Forms that have been previously approved by the Commission but that could not be reported due to the limitations of VFP, if any, will be included among the data collected using the new XBRL system.

16. While recognizing XBRL US's recommendation that the Commission provide guidance and training to filers, the Commission will provide guidance on how to use the new XBRL-based filing system through documentation, but the Commission does not anticipate that it will itself provide training on the new system. Any guidance documents will be published online and made available in draft form for review before final publication.

17. When the Commission receives the forms in XBRL format, it will make those forms available in a human-readable version, similar to how they are currently published in the Commission's eLibrary system. Therefore, an entity interested in reviewing forms after they have been submitted in XBRL will be able to do so. As a result, the Commission does not believe, contrary to AGA's request for additional time to review Commission Form submissions, that conversion to XBRL warrants more time to review these filings because the current proceeding is not changing the information collected in Commission Forms.

2. XBRL Taxonomy

a. Comments

18. Most commenters emphasize their need for a comprehensive review of the proposed XBRL taxonomy prior to any technical conference(s). INGAA states it is crucial for the Commission to ensure adequate transition time once the taxonomy is finalized.³¹ EEI states it prefers that the taxonomy and mapping be predetermined for each form, noting that the current format of each form should dictate the common taxonomy and mapping for that form and that the footnotes to the financial statements also should be filed as a single block of text.³² AOPL suggests that the Commission develop a taxonomy that has all necessary customization to accommodate the unique requirements of the respective forms, including the Form Nos. 6 and 6-Q filed by oil pipelines.³³ AOPL also states its members will be interested during the technical conferences in understanding how the draft taxonomy addresses tagging within footnotes and the ability to use “cellnotes” in Form Nos. 6 and 6-Q, and how they will be treated in the Commission's conversion of historical VFP Form data to XBRL.³⁴ AOPL suggests that the Commission consider development of document and/or workbook templates that track the display of the existing Form Nos. 6 and 6-Q for ease of reviewing form submissions and to help lessen the burden of XBRL implementation.³⁵ Systrends USA requests that the Commission provide a submission portal so that third-party software can transfer the completed Commission Forms directly from an application to the Commission, similar to the end-user submission portal designed for EQR that uses a web service to upload the document.³⁶

³¹ INGAA Comments at 2.

³² EEI Comments at 3.

³³ AOPL Comments at 3.

³⁴ Id. at 3-4.

³⁵ Id. at 4.

³⁶ Systrends USA Comments at 1.

19. WUTC states that the Commission should be the leader in establishing a regulatory taxonomy, and suggests that development of any draft taxonomy be conducted in concert with the states and the National Association of Regulatory Utility Commissioners (NARUC), and include the capacity for state-specific data along with Commission-based interstate operational and financial data.³⁷ According to WUTC, without a Commission-developed taxonomy that incorporates state requirements, the states would be required to recreate new taxonomies which would not necessarily be readable by other state agencies.³⁸

³⁷ WUTC Comments at 2-3.

³⁸ Id. at 2-3.

20. As to how much historical data should be converted to the new system to coincide with the launch, INGAA supports the NOPR's proposal to incorporate the prior three years of VFP Form data from the current VFP system.³⁹ By contrast, EEI suggests that the transfer of historical data should be deferred entirely until after the successful launch of the XBRL system.⁴⁰

³⁹ INGAA Comments at 2.

⁴⁰ EEI Comments at 6.

21. With respect to the involvement of NAESB in the technical conference(s), INGAA supports the idea that NAESB be involved with the staff-led technical conference, as this will allow all interested industry members to discuss and propose revisions to the Commission's draft taxonomy in consultation with NAESB. INGAA notes that NAESB's involvement will also provide interested industry members with an opportunity to propose revisions to the Commission's draft taxonomy before it is finalized.⁴¹ However, EEI notes that, to the extent staff-led technical conference(s), or any other aspects of the implementation of XBRL are hosted or otherwise coordinated by NAESB, they should not be limited to NAESB members, nor should participants be required to pay fees to NAESB, in order to have input or the ability to vote on any proposals.⁴² EEI states that this will ensure that all stakeholders impacted by the proposal will have the opportunity to participate and provide comment on any proposal.⁴³

⁴¹ INGAA Comments at 2.

⁴² EEI Comments at 3-4.

⁴³ Id.

b. Commission Determination

22. The Commission plans to address all technical details of the XBRL system in its draft taxonomy and other documents released prior to the technical conference(s) to encourage input and discussion on their components and implementation. Accordingly, we find Systrends USA's comments requesting a submission portal ⁴⁴ and XBRL US's recommendation to use automated validation rules and implement a process to conduct public reviews of new taxonomy releases ⁴⁵ to be premature. If necessary, the Commission will address technical topics such as these during the technical conference(s). Future changes to the taxonomy and related code can be made under the Secretary of the Commission's delegated authority to make such changes.⁴⁶ Before the Commission implements any such changes, notice of the proposed change will be provided sufficiently in advance to notify companies and provide them time to comply with the changes to the taxonomy and related code.

⁴⁴ Systrends USA Comments at 1.

⁴⁵ XBRL US Comments at 5-6.

⁴⁶ In particular, § 375.302(z) of the Commission's regulations authorizes the Secretary of the Commission or designee to “[i]ssue instructions pertaining to allowable electronic file and document formats . . . and procedural guidelines for submissions via the internet, on electric media, or via other electronic means.” 18 CFR 375.302(z).

23. Regarding WUTC's suggestion that the development of any draft taxonomy be conducted in concert with state commissions and NARUC, the Commission encourages state utility commissions to participate in the technical conference(s). With respect to WUTC's suggestion that the Commission's taxonomy incorporate state requirements, we do not plan to incorporate state requirements into the Commission-developed taxonomy. Incorporating a diverse array of state requirements into the Commission's taxonomy would lead to potential challenges and delays in implementing and maintaining the new system. However, XBRL is extensible in nature and filings can be created to meet particular state commission requirements without affecting the Commission's requirements. Furthermore, because the Commission is not revising the substance of the required filings, it does not need to take into account state compliance purposes in this proceeding, as suggested by AGA.

24. With regard to converting historical data, the new XBRL system and the conversion of historical data to XBRL will be developed concurrently. Therefore, at this time, contrary to EEI's suggestion, the Commission does not anticipate deferring the transfer of historical data until after the XBRL system is launched. If the conversion of historical data delays the development of the new XBRL system, then the Commission may decide to defer the transfer of historical data until after the launch of the XBRL system.

25. This proceeding will continue to be open to all interested industry members, vendors, and the public. The Commission directs its staff to initiate technical conference(s) and to lead the transition effort and welcomes input from all interested parties. The Commission appreciates the assistance and input that NAESB has provided to date in facilitating meetings to discuss the transition and sees value in continuing to work with NAESB and its members, as appropriate, to facilitate interaction with filers and users about the new XBRL system.

B. Regulatory Text Revisions

26. With the exception of Form No. 1-F, current regulations already provide for the filing of Form Nos. 1, 2, 2-A, 3-Q electric, 3-Q natural gas, 6, 6-Q, 60, and 714 in electronic format according to the instructions for each form and filing. The Commission sees no need for further regulatory text changes pertaining to these forms. Upon completion of the technical conference process, however, the Commission will issue an order revising the filing format instructions for the forms to accord with the results of the technical conference(s). These instructions will cover only the format for making the electronic flings and will not include any revisions to the substance of the required filings, which the Commission will make when necessary in appropriate separate proceedings. By this final rule, the Commission is revising its regulations to require Form No. 1-F filers to submit Form No. 1-F in electronic format rather than filing an original and copies of the form on paper, as is currently required. The Commission is therefore revising § 141.2(b)(1)(i) of the Commission's regulations ⁴⁷ and Rule 2011 of its Rules of Practice and Procedure ⁴⁸ to require Form No. 1-F filers to submit their reports using electronic media as prescribed in Rule 2011.

⁴⁷ 18 CFR 141.2(b)(1)(i).

⁴⁸ 18 CFR 385.2011.

IV. Information Collection Statement

27. The collections of information for this final rule are being submitted to OMB for review under section 3507(d) of the Paperwork Reduction Act (PRA).⁴⁹ The PRA requires each federal agency to seek and obtain Office of Management and Budget (OMB) approval before undertaking a collection of information directed to ten or more persons or contained in a rule of general applicability. OMB's regulations require approval of certain information collection requirements imposed by agency rules.⁵⁰

⁴⁹ 44 U.S.C. 3507(d).

⁵⁰ 5 CFR 1320.11.

28. The Commission solicited public comments regarding the accuracy of the burden estimates and any suggested methods for minimizing respondents' burden. Specifically, the Commission asked that any revised burden or cost estimates submitted by commenters be supported by sufficient detail to understand how the estimates are generated. No comments were filed raising any objection to the burden estimates provided in the NOPR. Accordingly, we will use that same burden estimate in this final rule.

29. The revisions in this final rule update the filing process for regulated entities required to file Commission Forms. The information collected in Commission Forms is required to be submitted to the Commission annually or quarterly under existing regulations and reporting requirements adopted under the Federal Power Act (FPA), the Natural Gas Act (NGA), the Interstate Commerce Act (ICA), and the Public Utility Holding Company Act of 2005 (PUHCA 2005). Commission Forms would continue to be submitted to the Commission under these existing regulations and reporting requirements. The new and amended regulations and reporting requirements adopted in this final rule will require regulated entities to furnish the information collected in Commission Forms using tags in XBRL-Related Documents.⁵¹ The specified financial and operational information already is required to be collected and filed with the Commission pursuant to existing periodic and annual report requirements. Under this final rule, the information would need to be filed with the Commission using XBRL. The Commission anticipates that the revisions to the filing process for Commission Forms, once effective, would reduce ongoing regulatory burdens.⁵²

⁵¹ XBRL-Related Documents for purposes of this rulemaking encompass documents, code, and any other file related to presenting information in XBRL that are part of the filing submission.

⁵² Burden is the total time, effort, or financial resources expended by persons to generate, maintain, retain, or disclose or provide information to or for a Federal agency. For further explanation of what is included in the information collection burden, refer to 5 CFR 1320.3.

30. The collections of information related to this final rule include the following Commission Forms. FERC Form No. 1 (OMB Control No. 1902-0021), FERC Form No. 2 (OMB Control No. 1902-0028), and FERC Form No. 6 (OMB Control No. 1902-0022) prescribe the information that major electric utilities, licensees, and others; major natural gas companies; and oil pipeline companies, respectively, must disclose annually about their finances and operations. FERC Form No. 1-F (OMB Control No. 1902-0029) and FERC Form No. 2-A (OMB Control No. 1902-0030) prescribe the information that nonmajor electric utilities and licensees; and nonmajor natural gas companies, respectively, must disclose annually about their finances and operations. FERC Form No. 3-Q (OMB Control No. 1902-0205) prescribes information that electric utilities, licensees, and natural gas companies must disclose quarterly about their finances and operations. FERC Form No. 6-Q (OMB Control No. 1902-0206) prescribes information that oil pipeline companies must disclose quarterly about their finances and operations. FERC Form No. 714 (OMB Control No. 1902-0140) prescribes information that certain electric transmitting utilities operating balancing authority areas or planning areas are required to file annually. FERC Form No. 60 (OMB Control No. 1902-0215) prescribes information that centralized service companies must disclose annually about their finances and operations.

31. The following estimates of reporting burden are related only to this final rule and include the costs to comply with the Commission's directives in this final rule. The compliance burden estimates for the revisions to the filing process for Commission Forms are based on several assumptions and unique assessments for each form. However, all regulated entities required to submit Commission Forms would have to map the reporting information to the Commission's standard XBRL taxonomy and create a final submission file(s). We estimate that filers would incur the following average burden hours:

• XBRL Form Nos. 1, 1-F, 3-Q electric, 2, 2-A, 3-Q natural gas, 6, and 6-Q ⁵³

⁵³ The internal burden hours for tagging Form Nos. 1 and 3-Q electric are combined because the annual information reported in Form No. 1 is a compilation of the information reported in the prior three quarters in Form Nos. 3-Q electric in addition to the fourth quarter. Similarly, we have combined the number of internal burden hours for tagging the Form Nos. 2 and 3-Q natural gas and the Form Nos. 6 and 6-Q, respectively, because the annual Form Nos. 2 and 6 are based on a compilation of the information reported in the prior three quarters in Form Nos. 3-Q natural gas and 6-Q in addition to the fourth quarter.

○ Burden hours to tag in XBRL:

100 hours to prepare and submit the first filing using XBRL; and

14 hours for each subsequent filing in XBRL.

• Form No. 60

○ Burden hours to tag in XBRL:

20 hours to prepare and submit the first filing made in XBRL; and

3 hours for each subsequent filing.

• Form No. 714

○ Burden hours to tag in XBRL:

15 hours to prepare and submit the first filing made in XBRL; and

2 hours for each subsequent filing.

32. Public Reporting Burden: The Commission's burden estimates are for a one-time implementation of the transition to XBRL adopted in this final rule, and an ongoing estimate for maintenance of the XBRL reporting system. The following estimates of reporting burden are related only to this final rule and anticipate the costs to filers for compliance with the final rule.

⁵⁴ The average burden and cost per response is calculated using the hourly wage figures described in detail below.

⁵⁵ Every figure in this column is rounded to the nearest dollar.

⁵⁶ There is no change to the internal burden hours for filing Form Nos. 3-Q electric, 3-Q natural gas, and 6-Q because the burden hours associated with these quarterly forms are included in the burden hours calculated for filing Form Nos. 1, 2, and 6.

⁵⁷ This total number of responses does not include the responses for Form Nos. 3-Q electric, 3-Q natural gas, or 6-Q because the burden hours for tagging Form Nos. 1, 2, and 6 include the number of hours required to tag the quarterly responses. The quarterly filings are generally a subset of the annual filings.

RM19-12-000 Final Rule
One-Time Implementation Burden
Requirement | Number of respondents | Annual number of responses per respondent | Total number of responses | Average burden & cost per response ⁵⁴ | Total annual burden hours & cost ⁵⁵ | Annual cost per respondent ($)
| (1) | (2) | (1) * (2) = (3) | (4) | (3) * (4) = (5) | (5) ÷ (1)
Form No. 1 | 207 | 1 | 207 | 100 hrs.; $6,931 | 20,700 hrs.; $1,434,717 | $6,931.
Form No.1-F | 5 | 1 | 5 | 100 hrs.; $6,931 | 500 hrs.; $34,655 | $6,931.
Form No. 3-Q electric | 212 | 3 | 636 | No Change ⁵⁶ | No Change | No Change.
Form No. 2 | 92 | 1 | 92 | 100 hrs.; $6,931 | 9,200 hrs.; $637,652 | $6,931.
Form No. 2-A | 73 | 1 | 73 | 100 hrs.; $6,931 | 7,300 hrs.; $505,963 | $6,931.
Form No. 3-Q natural gas | 165 | 3 | 495 | No Change | No Change | No Change.
Form No. 6 | 244 | 1 | 244 | 100 hrs.; $6,931 | 24,400 hrs.; $1,691,164 | $6,931.
Form No. 6-Q | 244 | 3 | 732 | No Change | No Change | No Change.
Form No. 60 | 39 | 1 | 39 | 20 hrs.; $1,386.20 | 780 hrs.; $54,062 | $1,386.20.
Form No. 714 | 176 | 1 | 176 | 15 hrs.; $1,039.65 | 2,640 hrs.; $182,977 | $1,039.65.
Total for Implementation Burden |  |  | ⁵⁷ 836 |  | 65,520 hrs.; $4,541,190 |

RM19-12-000 Final Rule
Annual Ongoing System Maintenance Burden
Requirement | Number of respondents | Annual number of responses per respondent | Total number of responses | Average burden & cost per response ⁵⁸ | Total annual burden hours & cost ⁵⁹ | Annual cost per respondent ($)
| (1) | (2) | (1) * (2) = (3) | (4) | (3) * (4) = (5) | (5) ÷ (1)
Form No. 1 | 207 | 1 | 207 | 14 hrs.; $970.34 | 2,898 hrs.; $200,860 | $970.34.
Form No.1-F | 5 | 1 | 5 | 14 hrs.; $970.34 | 70 hrs.; $4,852 | $970.34.
Form No. 3-Q electric | 212 | 3 | 636 | No Change | No Change | No Change.
Form No. 2 | 92 | 1 | 92 | 14 hrs.; $970.34 | 1,288 hrs.; $89,271 | $970.34.
Form No. 2-A | 73 | 1 | 73 | 14 hrs.; $970.34 | 1,022 hrs.; $70,835 | $970.34.
Form No. 3-Q natural gas | 165 | 3 | 495 | No Change | No Change | No Change.
Form No. 6 | 244 | 1 | 244 | 14 hrs.; $970.34 | 3,416 hrs.; $236,763 | $970.34.
Form No. 6-Q | 244 | 3 | 732 | No Change | No Change | No Change.
Form No. 60 | 39 | 1 | 39 | 3 hrs.; $207.93 | 117 hrs.; $8,109 | $207.93.
Form No. 714 | 176 | 1 | 176 | 2 hrs.; $138.62 | 352 hrs.; $24,397 | $138.62.
Total for Ongoing Burden |  |  | ⁶⁰ 836 |  | 9,163 hrs.; $635,087 |

The Commission's estimates for the hourly wage figure (as related to the implementation and ongoing burden estimate) are based on the Bureau of Labor Statistics data (for the Utilities sector, at http://www.bls.gov/oes/current/naics2_22.htm, plus benefits information at http://www.bls.gov/news.release/ecec.nr0.htm). The salaries (plus benefits) for the eight occupational categories are:

⁵⁸ The average burden and cost per response is calculated using the hourly wage figures described in detail below.

⁵⁹ Every figure in this column is rounded to the nearest dollar.

⁶⁰ This total number of responses does not include the responses for Form Nos. 3-Q electric, 3-Q natural gas, or 6-Q because the burden hours for tagging Form Nos. 1, 2, and 6 include the number of hours required to tag the quarterly responses. The quarterly filings are generally a subset of the annual filings.

• Management (Occupation Code: 11-0000): $94.28/hour

• Information Security Analysts (Occupation Code: 15-1122): $60.90/hour

• Legal (Occupation Code: 23-0000): $143.68/hour

• Office and Administrative Support: $41.34/hour

• Computer and Information Systems Manager (Occupation Code: 11-3021): $96.51

• Management Analyst (Occupation Code: 13-1111): $63.32/hour

• Computer and Information Systems Analyst (Occupation Code: 15-1120): $66.47/hour

• Accountants and Auditors (Occupation Code: 13-2011): $56.59/hour

The average hourly cost for all eight of these categories is calculated assuming the following weights in correspondence to effort applied by each respective occupation:

• Management (Occupation Code: 11-0000): 5%

• Information Security Analysts (Occupation Code: 15-1122): 5%

• Legal (Occupation Code: 23-0000): 5%

• Office and Administrative Support: 10%

• Computer and Information Systems Manager (Occupation Code: 11-3021): 10%

• Management Analyst (Occupation Code: 13-1111): 5%

• Computer and Information Systems Analyst (Occupation Code: 15-1120): 35%

• Accountants and Auditors (Occupation Code: 13-2011): 25%

Overall, the average hourly cost uses the following calculation with all seven occupations and their respective weights included:

[($94.28/hour * 0.05) + ($60.90/hour * 0.05) + ($143.68/hour * 0.05) + ($41.34/hour * 0.1) + ($96.51/hour * 0.1) + ($63.32/hour * 0.05) + ($66.47/hour * 0.35) + ($56.59/hour * 0.25)] ÷ 8 = $69.31.

The number of responses related to both the implementation and ongoing burden is 836 responses.⁶¹

⁶¹ This total number of responses does not include the responses for Form Nos. 3-Q electric, 3-Q natural gas, or 6-Q because the burden hours for tagging Form Nos. 1, 2, and 6 include the number of hours required to tag the quarterly responses. The quarterly filings are generally a subset of the annual filings.

The implementation burden will be 65,520 hours for Year 1.

The ongoing burden in Years 2 and 3 will be 9,163 hours per year.

The responses and burden for Years 1-3 for both the implementation and ongoing burden are as follows:

836 responses/year;

[(65,520 hours for Year 1) + (9,163 hours for Year 2) + (9,163 hours for Year 3)] ÷ 3 years = 27,949 hours/year (annual average for Years 1-3).

33. Out-of-pocket expenses: We estimate that filers would incur the following out-of-pocket expenses for software, consulting, or filing agent services in the Years 2 and 3 (following the first year of implementation):

• XBRL Form Nos. 1, 1-F, 3-Q electric, 2, 2-A, 3-Q natural gas, 6, and 6-Q:

○ Out-of-pocket cost for software and filing agent services: $4,912 for each filing.

○ Total out-of-pocket cost for software and filing agent services per year: (621 respondents) * ($4,912 for each filing) = $3,050,352.

• Form No. 60:

○ Out-of-pocket cost for software and filing agent services: $982 for each filing.

○ Total out-of-pocket cost for software and filing agent services per year: (39 respondents) * ($982 for each filing) = $38,298.

• Form No. 714

○ Out-of-pocket cost for software and filing agent services: $737 for each filing.

○ Total out-of-pocket cost for software and filing agent services per year: (176 respondents) * ($737 for each filing) = $129,712.

34. Based on the number of filers we expect to be subject to the requirements, the number of filings that we expect those filers to make and the burden hours and out-of-pocket cost estimates described, we estimate that in total for all filers, the average yearly burden of the requirements over the first three years would be 27,949 internal hours per year and $2,145,575 in out-of-pocket expenses per year. This would be incurred by an average of 836 filers for an average yearly burden per filer of 33.4 internal hours and $2,566 in out-of-pocket expenses over Years 1-3.

Titles: Form No. 1 (Annual Report of Major Electric Utilities, Licensees and Others); Form No. 1-F (Annual Report for Nonmajor Public Utilities and Licensees); Form No. 3-Q electric (Quarterly Financial Report of Electric Utilities, Licensees and Natural Gas Companies); Form No. 2 (Annual Report for Major Natural Gas Companies); Form No. 2-A (Annual Report for Non-major Natural Gas Companies); Form No. 3-Q gas (Quarterly Financial Report of Electric Utilities, Licensees and Natural Gas Companies); Form No. 6 (Annual Report of Oil Pipeline Companies); Form No. 6-Q (Quarterly Financial Report of Oil Pipeline Companies); Form No. 60 (Annual Reports of Centralized Service Companies); Form No. 714 (Annual Electric Balancing Authority Area and Planning Area Report).

Action: Revision of Currently Approved Collections of Information.

OMB Control Nos.: 1902-0021 (Form No. 1), 1902-0029 (Form No. 1-F), 1902-0028 (Form No. 2), 1902-0030 (Form No. 2-A), 1902-0205 (Form No. 3-Q), 1902-0022 (Form No. 6), 1902-0206 (Form No. 6-Q), 1902-0215 (Form No. 60), and 1902-0140 (Form No. 714).

Respondents: Public utilities, licensees, interstate natural gas companies, oil pipeline companies, centralized service companies, Balancing Authorities, or other for profit and/or not for profit institutions.

Frequency of Responses: Annually or quarterly.

Necessity of the Information: The Commission requires that the information collected in Form Nos. 1, 1-F, 3-Q electric, 2, 2-A, 3-Q natural gas, 6, 6-Q, 60, and 714 be submitted in an updated electronic format that is compatible with current technology and ensures access to the information required to be collected.

Internal Review: The Commission has reviewed the reporting requirements related to Commission Forms and made a determination that revising the filing process for Commission Forms will ensure the Commission has the necessary data to carry out its statutory mandates, while reducing unnecessary burden on industry. The Commission has assured itself, by means of its internal review, that there is specific, objective support for the burden estimate associated with the information requirements.

35. Interested persons may obtain information on the reporting requirements by contacting the following: Federal Energy Regulatory Commission, 888 First Street NE, Washington, DC 20426 [Attention: Ellen Brown, Office of the Executive Director, email: DataClearance@ferc.gov, phone: (202) 502-8663, fax: (202) 273-0873]. Please send comments concerning the collection of information and the associated burden estimates to the Commission, and to the Office of Management and Budget, Office of Information and Regulatory Affairs, 725 17th Street NW, Washington, DC 20503 [Attention: Desk Officer for the Federal Energy Regulatory Commission]. For security reasons, comments to OMB should be submitted by email to: oira_submission@omb.eop.gov. Comments submitted to OMB should include Docket Number RM19-2-000 and any related information collection and its respective OMB Control Number [Form No. 1 (1902-0021), Form No. 1-F (1902-0029), Form No. 2 (1902-0028), Form No. 2-A (1902-0030), Form No. 3-Q (1902-0205), Form No. 6 (1902-0022), Form No. 6-Q (1902-0206), Form No. 60 (1902-0215), and Form No. 714 (1902-0140)].

V. Environmental Analysis

36. The Commission is required to prepare an Environmental Assessment or an Environmental Impact Statement for any action that may have a significant adverse effect on the human environment.⁶² The Commission has categorically excluded certain actions from this requirement as not having a significant effect on the human environment.⁶³ The actions taken in this final rule fall within the categorical exclusions in the Commission's regulations for rules regarding information gathering, analysis, and dissemination.⁶⁴ Accordingly, no environmental assessment is necessary and none has been prepared for this rule.

⁶² Regulations Implementing the National Environmental Policy Act of 1969, Order No. 486, 52 FR 47897 (Dec. 17, 1987), FERC Stats. & Regs. ¶ 30,783 (1987) (cross-referenced at 41 FERC ¶ 61,284).

⁶³ 18 CFR 380.4.

⁶⁴ 18 CFR 380.4(a)(2)(ii) and 380.4(a)(5).

VI. Regulatory Flexibility Act

37. The Regulatory Flexibility Act of 1980 (RFA) ⁶⁵ generally requires a description and analysis of proposed rules that will have significant economic impact on a substantial number of small entities. The Commission is not required to perform this sort of analysis if the proposed activities within the final rule would not have such an effect.

⁶⁵ 5 U.S.C. 601-12.

38. Approximately 212 electric utility, licensees, and other companies are required to file the Form Nos. 1 and 3-Q electric, or Form No. 1-F, and therefore are subject to the requirements adopted by this rule. Of those filers, the Commission estimates approximately 40 will be small as defined by SBA regulations.⁶⁶ Approximately 244 oil pipeline companies are required to file the Form Nos. 6 and 6-Q, and therefore are subject to the requirements of this final rule. Of those oil pipeline filers, the Commission estimates approximately 23 percent will be small, as currently defined for “All Other Pipeline Transportation” companies (NAICS code 486990) as a company that, in combination with its affiliates, has total annual receipts of $37.5 million or less. Approximately 165 interstate natural gas pipelines are required to file the Form Nos. 2 and 3-Q natural gas, or Form No. 2-A, and therefore are subject to the requirements adopted by this rule. Most of the natural gas pipelines regulated by the Commission do not fall within the RFA's definition of a small entity, which is currently defined for natural gas pipelines (NAICS code 486210) as a company that, in combination with its affiliates, has total annual receipts of $27.5 million or less. For the year 2018, eleven companies not affiliated with larger companies had annual revenues in combination with its affiliates of $27.5 million or less and therefore could be considered a small entity under the RFA. This represents about seven percent of the total potential respondents that may have a significant burden imposed on them.

⁶⁶ The small business size standards are provided in 13 CFR 121.201. In 13 CFR 121.201, the SBA uses the North American Industry Classification System (NAICS) codes.

39. Approximately 39 holding companies currently file Form No. 60. Commission staff estimates that these companies are not likely to fall within the RFA's definition of small ⁶⁷ because holding companies of public utilities or natural gas pipelines are generally not small businesses. Finally, there are approximately 176 balancing authorities (NAICS code 221121) that are required to file Form No. 714. Of those balancing authorities, 33 percent (or approximately 58) are estimated to fall within the RFA's definition of small.

⁶⁷ 5 U.S.C. 601(3) (citing to section 3 of the Small Business Act, 15 U.S.C. 632). Section 3 of the Small Business Act defines a “small business concern” as a business that is independently owned and operated and that is not dominant in its field of operation. 15 U.S.C. 632. The Small Business Size Standards component of the NAICS defines, for example, a small electric utility as one that, including its affiliates, is primarily engaged in the generation, transmission, and/or distribution of electric energy for sale and whose quantity of employees falls under a certain threshold dependent on the type of utility and its applicable NAICS code.

40. Accordingly, the Commission finds that the revised requirements set forth in this final rule will not have a significant economic impact on a substantial number of small entities, and no regulatory flexibility analysis is required.

VII. Document Availability

41. In addition to publishing the full text of this document in the Federal Register, the Commission provides all interested persons an opportunity to view and/or print the contents of this document via the internet through FERC's Home Page (http://www.ferc.gov) and in FERC's Public Reference Room during normal business hours (8:30 a.m. to 5:00 p.m. Eastern time) at 888 First Street NE, Room 2A, Washington DC 20426.

42. From FERC's Home Page on the internet, this information is available on eLibrary. The full text of this document is available on eLibrary in PDF and Microsoft Word format for viewing, printing, and/or downloading. To access this document in eLibrary, type the docket number excluding the last three digits of this document in the docket number field.

43. User assistance is available for eLibrary and the FERC's website during normal business hours from FERC Online Support at 202-502-6652 (toll free at 1-866-208-3676) or email at ferconlinesupport@ferc.gov, or the Public Reference Room at (202) 502-8371, TTY (202)502-8659. Email the Public Reference Room at public.referenceroom@ferc.gov.

VIII. Effective Date and Congressional Notification

44. These regulations are effective August 26, 2019. Pursuant to the Congressional Review Act (5 U.S.C. 801 et seq.), the Office of Information and Regulatory Affairs has designated this rule as not a “major rule,” as defined by 5 U.S.C. 804(2).

List of Subjects

18 CFR Part 141

Electric power, Reporting and recordkeeping requirements.

18 CFR Part 385

Administrative practice and procedure, Electric power, Penalties, Pipelines, Reporting and recordkeeping requirements.

By the Commission.
Issued: June 20, 2019.
Nathaniel J. Davis, Sr.,
Deputy Secretary.

In consideration of the foregoing, the Commission amends parts 141 and 385 of chapter I, title 18 of the Code of Federal Regulations, as follows.

PART 141—STATEMENTS and REPORTS (SCHEDULES)

1. The authority citation for part 141 continues to read as follows:

Authority: 15 U.S.C. 79; 15 U.S.C. 717-717z; 16 U.S.C. 791a-828c, 2601-2645; 31 U.S.C. 9701; 42 U.S.C. 7101-7352.2.

2. Amend § 141.2 by revising paragraph (b)(1)(i) to read as follows:

§ 141.2 FERC Form No. 1-F, Annual report for Nonmajor public utilities and licensees.

* * * * *

(b) * * *

(1) * * *

(i) Generally. Each Nonmajor and each Nonoperating (formerly designated as Nonmajor) public utility and licensee as defined in Part 101 of this chapter, shall prepare and file with the Commission FERC Form No. 1-F as prescribed in § 385.2011 of this chapter and as indicated in the General Instructions set out in this form, and must be properly completed and verified. Filing on electronic media pursuant to § 385.2011 of this chapter is required.

* * * * *

PART 385—RULES OF PRACTICE AND PROCEDURE

3. The authority citation for part 385 continues to read as follows:

Authority: 5 U.S.C. 551-557; 15 U.S.C. 717-717w, 3301-3432; 16 U.S.C. 791a-825v, 2601-2645; 28 U.S.C. 2461; 31 U.S.C. 3701, 9701; 42 U.S.C. 7101-7352, 16441, 16451-16463; 49 U.S.C. 60502; 49 App. U.S.C. 1-85 (1988); 28 U.S.C. 2461 note (1990); 28 U.S.C. 2461 note (2015).

4. Amend § 385.2011 by adding paragraph (a)(8) and revising paragraph (c)(3) to read as follows:

§ 385.2011 Procedures for filing on electronic media (Rule 2011).

* * * * *

(a) * * *

(8) FERC Form No. 1-F, Annual report for Nonmajor public utilities and licensees.

* * * * *

(c) * * *

(3) With the exception of the FERC Form Nos. 1, 1-F, 2, 2-A, 6, 60, and 714, the electronic media must be accompanied by the traditional prescribed number of paper copies.

* * * * *

[FR Doc. 2019-13588 Filed 6-26-19; 8:45 am]

BILLING CODE 6717-01-P